DEPARTMENT OF ENERGY

Federal Energy Regulatory Commission

[Docket No. PL05-5-000]

Inquiry Regarding Income Tax Allowances; Request for Comments; Notice of Extension of Time

December 9, 2004.

On December 8, 2004, the Association of Oil Pipe Lines (AOPL), Interstate Natural Gas Association of America (INGAA), and Edison Electric Institute (EEI) (together, Movants) filed a motion for an extension of time to file comments in response to the Commission's Request For Comments issued December 2, 2004, in the above-docketed proceeding. Movants state that an extension is necessary because the current deadline for filing comments, December 22, 2004, falls during the holiday season and it is difficult to assemble the resources required to respond to the significant and complex policy issues addressed in the Request For Comments. The Movants further state that interested parties outside the regulated industries who may not yet be aware of the Commission's inquiry would also benefit from additional time to comment.

Upon consideration, notice is hereby given that an extension of time to file comments on the December 2 Request For Comments is granted to and including January 21, 2005, as requested by Movants.

Magalie R. Salas,
Secretary.

[FR Doc. 04-27376 Filed 12-10-04; 8:45 am]

BILLING CODE 6717-01-P